DEPARTMENT OF TRANSPORTATION

Federal Aviation Administration

14 CFR Part 39

[Docket No. FAA-2021-0375; Project Identifier MCAI-2020-01245-R; Amendment 39-21656 AD 2021-15-09]

RIN 2120-AA64

Airworthiness Directives; Leonardo S.p.a. Helicopters

AGENCY: Federal Aviation Administration (FAA), DOT.

ACTION: Final rule.

SUMMARY: The FAA is adopting a new airworthiness directive (AD) for certain Leonardo S.p.a. Model AB139 and AW139 helicopters. This AD was prompted by two events of uncommanded emergency flotation system (EFS) deployment during flight. This AD requires replacing certain part-numbered EFS control panels and prohibits installing them. The FAA is issuing this AD to address the unsafe condition on these products.

DATES: This AD is effective August 27, 2021.

ADDRESSES: For service information identified in this final rule, contact Leonardo S.p.A. Helicopters, Emanuele Bufano, Head of Airworthiness, Viale G.Agusta 520, 21017 C.Costa di Samarate (Va) Italy; telephone +39-0331-225074; fax +39-0331-229046; or at https://www.leonardocompany.com/en/home. You may view the referenced service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-0375; or in person at Docket Operations between 9 a.m. and 5 p.m., Monday through Friday, except Federal holidays. The AD docket contains this final rule, the European Aviation Safety Agency (now European Union Aviation Safety Agency) (EASA) AD, any comments received, and other information. The street address for Docket Operations is U.S. Department of Transportation, Docket Operations, M-30, West Building Ground Floor, Room W12-140, 1200 New Jersey Avenue SE, Washington, DC 20590.

FOR FURTHER INFORMATION CONTACT: Ronnea Derby, Aerospace Engineer, Denver ACO Branch, Compliance & Airworthiness Division, FAA, 26805 E 68th Ave., Mail Stop: Room 214; Denver, CO 80249; telephone (303) 342-1093; email Ronnea.L.Derby@faa.gov.

SUPPLEMENTARY INFORMATION:

Background

The FAA issued a notice of proposed rulemaking (NPRM) to amend 14 CFR part 39 by adding an AD that would apply to Leonardo S.p.a. Model AB139 and AW139 helicopters with an EFS control panel part number (P/N) 3G9560V00556 (for use with night vision goggle) or 3G9560V00557 (standard) installed. The NPRM published in the Federal Register on May 25, 2021 (86 FR 28040). In the NPRM, the FAA proposed to require replacing EFS control panel P/Ns 3G9560V00556 and 3G9560V00557 with EFS control panel P/Ns 3G9560V00559 and 3G9560V00558, respectively. The NPRM also proposed to prohibit installing EFS control panel P/Ns 3G9560V00556 and 3G9560V00557 on any helicopter. The NPRM was prompted by EASA AD 2015-0172, dated August 21, 2015 (EASA AD 2015-0172), issued by EASA, which is the Technical Agent for the Member States of the European Union, to correct an unsafe condition for AgustaWestland S.p.A (formerly Agusta S.p.A.), AgustaWestland Philadelphia Corporation (formerly Agusta Aerospace Corporation) (now Leonardo S.p.a.) Model AB139 and AW139 helicopters with an EFS installed. EASA advises of two events of uncommanded EFS deployment during flight. Subsequent investigation revealed that these conditions had been caused by improper design of EFS control panel P/Ns 3G9560V00556 (for use with night vision goggle) and 3G9560V00557 (standard). This condition, if not addressed, could result in reduced control of the helicopter.

Accordingly, EASA AD 2015-0172 requires replacing EFS control panel P/Ns 3G9560V00556 and 3G9560V00557 with EFS control panel P/Ns 3G9560V00559 and 3G9560V00558, respectively. EASA AD 2015-0172 also prohibits installing EFS control panel P/Ns 3G9560V00556 and 3G9560V00557 on any helicopter.

Discussion of Final Airworthiness Directive

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters.

Related Service Information

The FAA reviewed AgustaWestland Bollettino Tecnico No. 139-374, dated July 6, 2015. This service information specifies procedures for replacing EFS control panel P/Ns 3G9560V00556 and 3G9560V00557 with EFS control panel P/Ns 3G9560V00559 and 3G9560V00558, respectively. This service information also notes that EFS control panel P/Ns 3G9560V00556 and 3G9560V00557 can be upgraded by following Sirio Panel Service Bulletins 6WS-MI100135 Ed.01 and 6WS-MI100134 Ed.01.

Differences Between This AD and the EASA AD

EASA AD 2015-0172 applies to Model AB139 and AW139 helicopters with an EFS installed, whereas this AD applies to those model helicopters with EFS control panel P/N 3G9560V00556 (for use with night vision goggle) or 3G9560V00557 (standard) installed instead. EASA AD 2015-0172 specifies replacing an affected EFS control panel within a compliance time of flight hours or months, whichever occurs first, based on helicopter configuration, whereas this AD requires that replacement within a shorter compliance time in hours time-in-service but the same number of months, based on helicopter configuration instead.

Costs of Compliance

The FAA estimates that this AD affects 133 helicopters of U.S. Registry. Labor rates are estimated at $85 per work-hour. Based on these numbers, the FAA estimates the following costs to comply with this AD.

Replacing an EFS control panel takes about 1 work-hour and parts cost about $12,342 for an estimated cost of $12,427 per helicopter and up to $1,652,791 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-15-09 Leonardo S.p.a.: Amendment 39-21656; Docket No. FAA-2021-0375; Project Identifier MCAI-2020-01245-R.

(a) Effective Date

This airworthiness directive (AD) is effective August 27, 2021.

(b) Affected ADs

None.

(c) Applicability

This AD applies to Leonardo S.p.a. Model AB139 and AW139 helicopters, certificated in any category, with an emergency flotation system (EFS) control panel part number (P/N) 3G9560V00556 (for use with night vision goggle) or 3G9560V00557 (standard) installed.

(d) Subject

Joint Aircraft Service Component (JASC) Code: 3212, Emergency Flotation Section.

(e) Unsafe Condition

This AD was prompted by two events of uncommanded EFS deployment during flight. The FAA is issuing this AD to address improper design of certain EFS control panels. The unsafe condition, if not addressed, could result in reduced control of the helicopter.

(f) Compliance

Comply with this AD within the compliance times specified, unless already done.

(g) Required Actions

(1) At the following compliance time, replace EFS control panel P/N 3G9560V00556 or 3G9560V00557 with EFS control panel P/N 3G9560V00559 or 3G9560V00558, respectively:

(i) For helicopters with EFS P/N 3G9560F00111 or 3G9560F00113, with Aerosekur floats with “pyrotechnical” inflation system P/N 3G9560V01051 installed, within 94 hours time-in-service (TIS) or 3 months after the effective date of this AD, whichever occurs first.

(ii) For helicopters with EFS P/N 3G9560F00111 or 3G9560F00113, with Aerosekur floats with “SMA” inflation system P/N 3G9560V01052 installed, within 377 hours TIS or 12 months after the effective date of this AD, whichever occurs first.

(iii) For helicopters with EFS P/N 3G9560F00212 with Aerosekur floats with “fuse disk” inflation system P/N 3G9560V02051 installed, within 565 hours TIS or 18 months after the effective date of this AD, whichever occurs first.

(2) As of the effective date of this AD, do not install EFS control panel P/N 3G9560V00556 or 3G9560V00557 on any helicopter.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD. Information may be emailed to: 9-AVS-AIR-730-AMOC@faa.gov.

(2) Before using any approved AMOC, notify your appropriate principal inspector, or lacking a principal inspector, the manager of the local flight standards district office/certificate holding district office.

(i) Related Information

(1) For more information about this AD, contact Ronnea Derby, Aerospace Engineer, Denver ACO Branch, Compliance & Airworthiness Division, FAA, 26805 E 68th Ave., Mail Stop: Room 214; Denver, CO 80249; telephone (303) 342-1093; email Ronnea.L.Derby@faa.gov.

(2) The subject of this AD is addressed in European Aviation Safety Agency (now European Union Aviation Safety Agency) (EASA) AD 2015-0172, dated August 21, 2015. You may view the EASA AD at https://www.regulations.gov in Docket No. FAA-2021-0375.

Issued on July 15, 2021.
Lance T. Gant,
Director, Compliance & Airworthiness Division, Aircraft Certification Service.

[FR Doc. 2021-15481 Filed 7-22-21; 8:45 am]

BILLING CODE 4910-13-P